DEPARTMENT OF LABOR

Employment and Training Administration

Notice of a Change in Status of the Payable Periods in the Emergency Unemployment Compensation 2008 (EUC08) Program for Colorado

AGENCY: Employment and Training Administration, Labor.

ACTION: Notice.

SUMMARY: Announcement regarding Notice of a Change in Status of the payable periods in the Emergency Unemployment Compensation 2008 (EUC08) program for Colorado.

Public Law 111-312 extended provisions in Public Law 111-92 which amended prior laws to create Third and Fourth Tiers of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

• Based on data released by the Bureau of Labor Statistics on October 21, 2011, the three month average, seasonally adjusted total unemployment rate for Colorado fell below the 8.5% threshold to remain “on” in Tier Four of the EUC08 program. The week ending November 12, 2011, is the last week in which EUC claimants in Colorado can exhaust Tier 3 and establish Tier 4 eligibility. Under the phase-out provisions, claimants who were in Tier Four can receive any remaining entitlement they have in Tier Four after November 12, 2011.

Information for Claimants

The duration of benefits payable in the EUC program, and the terms and conditions under which they are payable, are governed by Public Laws 110-252, 110-449, 111-5, 111-92, 111-118, 111-144, 111-157, 111-205 and 111-312, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 23rd day of November, 2011.
Jane Oates,
Assistant Secretary, Employment and Training Administration.

[FR Doc. 2011-30964 Filed 12-1-11; 8:45 am]

BILLING CODE 4510-FW-P